ENVIRONMENTAL PROTECTION AGENCY

[ER-FRL-9037-5]

Environmental Impact Statements; Notice of Availability

Responsible Agency: Office of Federal Activities, General Information (202) 564-7146 or http://www2.epa.gov/nepa/.

Weekly receipt of Environmental Impact Statements Filed 01/29/2018 Through 02/02/2018 Pursuant to 40 CFR 1506.9.

Notice

Section 309(a) of the Clean Air Act requires that EPA make public its comments on EISs issued by other Federal agencies. EPA's comment letters on EISs are available at: http://cdxnodengn.epa.gov/cdx-nepa-public/action/eis/search.

EIS No. 20180011, Final, USACE, CA, San Joaquin River Basin Lower San Joaquin River, CA, FINAL Integrated Interim Feasibility Report/Environmental Impact Statement/Environmental Impact Report, Review Period Ends: 03/12/2018, Contact: Tanis Toland 916-557-6717.

EIS No. 20180012, Draft, NSF, NM, Environmental Impact Statement for the Sacramento Peak Observatory, Sunspot, New Mexico, Comment Period Ends: 03/26/2018, Contact: Elizabeth Pentecost 703-292-4907.

EIS No. 20180013, Draft, USFS, CO, Crested Butte Mountain Resort (CBMR) Ski Area Projects, Comment Period Ends: 05/10/2018, Contact: Aaron Drendel 719-657-6019.

EIS No. 20180014, Draft, HHS, OH, Draft Environmental Impact Statement for Site Acquisition and Campus Consolidation for NIOSH, Comment Period Ends: 03/26/2018, Contact: Harry Marsh (770) 488-8170.

EIS No. 20180015, Final, BLM, ID, Bruneau-Owhyhee Sage-grouse Habitat Project, Review Period Ends: 03/12/2018, Contact: Michael McGee (208) 384-3464.

EIS No. 20180016, Final, FHWA, IN, I69 Section 6 Martinsville to Indianapolis, Under MAP-21 section 1319, FHWA has issued a single FEIS and ROD. Therefore, the 30-day wait/review period under NEPA does not apply to this action. Contact: Michelle Allen 317-226-7344.

Dated: February 6, 2018.
Kelly Knight,
Director, NEPA Compliance Division, Office of Federal Activities.

[FR Doc. 2018-02580 Filed 2-8-18; 8:45 am]

BILLING CODE 6560-50-P